FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than July 14, 2022.

A. Federal Reserve Bank of Kansas City (Jeffrey Imgarten, Assistant Vice President) 1 Memorial Drive, Kansas City, Missouri 64198-0001:

1. Scott Smith, New York, New York; to become trustee or co-trustee of the G. Jeffrey Records Jr. 2008 GST Exempt Family Trust, the G. Jeffrey Records, Jr. 2003 Family Trust (GJR), the G. Jeffrey Records, Jr. 2004 Family Trust (KRR), the G. Jeffrey Records, Jr. 2004 Family Trust (MER), and the George and Nancy Records 1990 Irrevocable Trust, and thereby indirectly acquire control of voting shares of Midland Financial Co. and MidFirst Bank, all of Oklahoma City, Oklahoma.

2. Todd Dobson, Oklahoma City, Oklahoma; to become trustee or co-trustee of the Kathryn R. Ryan 2007 GST Exempt Family Trust, the Ryan Family Security Trust, the Martha E. Records 2009 GST Exempt Family Trust, and the Martha Records Family 1997 GST Exempt Trust, and thereby indirectly acquire control of voting shares of Midland Financial Co. and MidFirst Bank, all of Oklahoma City, Oklahoma.

Board of Governors of the Federal Reserve System.
Michele Taylor Fennell,
Deputy Associate Secretary of the Board.

[FR Doc. 2022-13929 Filed 6-28-22; 8:45 am]

BILLING CODE P